DEPARTMENT OF THE INTERIOR

Bureau of Land Management

[AK-990-03-5101-ER-L016]

Final Environmental Impact Statement, Trans-Alaska Pipeline System Right-of-Way Renewal

AGENCY: Bureau of Land Management, Interior.

ACTION: Notice of availability of Final Environmental Impact Statement.

SUMMARY: The Bureau of Land Management (BLM) announces the availability of the Final Environmental Impact Statement (FEIS) for renewal of the Trans-Alaska Pipeline System (TAPS) Right-of-Way Grant. The original grant, issued January 23, 1974, will expire January 22, 2004. The renewal application was filed on May 2, 2001. Three alternatives are considered in the FEIS: The Proposed Action, renew the federal grant for 30 Years, until January 22, 2034; the Time-Dependent Alternative, renew the federal grant for less than 30 years; and the No-Action Alternative, do not renew the federal grant.

DATES: The FEIS will be available on November 26, 2002.

ADDRESSES: The FEIS and its Executive Summary will be available as a downloadable and searchable Portable Document File (pdf) at the TAPS Renewal EIS Web site, http://tapseis.anl.gov. CDs can be ordered from the same site.

Hard copies of the six volume FEIS can be requested in writing from Dr. John Krummel, Argonne National Laboratory EAD/900; 9700 South Cass Avenue; Argonne, Illinois 60439.

Hard copies and CDs of the FEIS are available for review at the following public reading rooms.

Anchorage:

Alaska Resources Library and Information Services; 3150 C Street, Suite 100.

Z.J. Loussac Library; 3600 Denali Street.

Bureau of Land Management Public Room; 222 West 7th Avenue.

State of Alaska, Department of Natural Resources Public Information Center; 550 West 7th Avenue, Suite 1260.

Barrow: Tuzzy Consortium Library; 5421 North Star Street.

Cordova: Cordova Public Library; 622 1st Street.

Fairbanks:

Fairbanks North Star Borough Public Library; 1215 Cowles Street.

Bureau of Land Management Public Room; 1150 University Avenue.

State of Alaska, Department of Natural Resources Public Information Center; 3700 Airport Way.

Glennallen:

Bureau of Land Management; Glennallen Field Office, Milepost 186.5, Glenn Highway.

Juneau:

Alaska State Library; 333 Willoughby, 8th Floor.

Valdez:

Valdez Public Library; 212 Fairbanks Street.

Washington, DC: Department of the Interior Library; 1849 C Street, NW.

SUPPLEMENTARY INFORMATION: The FEIS was prepared under authority of the Federal Land Policy and Management Act of 1976 (43 U.S.C. 1701), as amended; the National Environmental Policy Act of 1969 (42 U.S.C. 4321), as amended; the Council on Environmental Quality Regulations (40 CFR parts 1500-1508); and the Mineral Leasing Act of 1920 (30 U.S.C. 185), as amended, including Title II, the Trans-Alaska Pipeline Authorization Act (43 U.S.C. 1651). Argonne National Laboratory, Argonne, Illinois, prepared the FEIS under BLM's supervision and direction.

FOR FURTHER INFORMATION CONTACT: Rob McWhorter at the Federal/State Joint Pipeline Office, 411 West 4th Avenue, Suite 2, Anchorage, Alaska 99501, phone (907) 257-1355, or visit the TAPS Renewal EIS Web site, http://tapseis.anl.gov.

Henri Bisson,
State Director.

[FR Doc. 02-30222 Filed 11-27-02; 8:45 am]

BILLING CODE 4310-JA-P